DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 6, 2023 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Education and Obesity Prevention Grant (SNAP-Ed) National Program Evaluation and Reporting System (N-PEARS).

OMB Control Number: 0584-NEW.

Summary of Collection: This is a new information collection request. This information collection addresses existing reporting and recordkeeping requirements associated with newly developed State Plan and Annual Report systems under the Supplemental Nutrition Assistance Program Education and Obesity Prevention Grant Program (SNAP-Ed), a program established by Section 28 of the Food and Nutrition Act of 2008, as amended (7 U.S.C. 2036a) and administered by the U.S. Department of Agriculture's (USDA's) Food and Nutrition Service (FNS).

Need and Use of the Information: As required in the statute, to gain Federally allocated SNAP-Ed grants to conduct SNAP-Ed activities every year, such as nutrition education and obesity prevention services, States must submit a SNAP-Ed State Plan (FNS 925B) and a SNAP-Ed Annual Report (FNS 925A). The SNAP-Ed State Plan must be created based on SNAP-Ed Plan Guidance and then reviewed and approved by FNS Regional Offices before SNAP-Ed funding can be utilized.

The information contained in SNAP-Ed State Plans and Annual Reports is used by FNS to determine whether SNAP-Ed Program resources are being maximized, and whether State SNAP agencies have produced a persuasive and data-driven needs evaluation of nutrition, physical activity, and obesity prevention needs of the target population and their barriers to obtaining healthy foods and physical activity in the State SNAP-Ed Plan. Furthermore, the information is necessary to ensure integrity of SNAP-Ed funds, demonstrate program effectiveness, and track SNAP-Ed outcomes and impacts.

Description of Respondents: (1) 53 State Agencies that administer the SNAP-Ed Program in their State; (2) 112 State, Local, and Tribal Implementing Agencies (96 State Implementing Agencies, 7 Local Implementing Agencies, and 9 Tribal Implementing Agencies); (3) 53 Not-For-Profit Implementing Agencies; (4) 21 employees at State Agencies that administer the SNAP-Ed Program in their State; (5) 83 employees at State, Local, and Tribal Implementing Agencies (69 employees at State Implementing Agencies, 6 employees at Local Implementing Agencies, and 8 employees at Tribal Implementing Agencies); and (6) 42 employees at Not-For-Profit Implementing Agencies.

Number of Respondents: 364.

Frequency of Responses: Reporting: Annually.

Total Burden Hours: 393,209.

Ruth Brown,
Departmental Information Collection Clearance Officer.

[FR Doc. 2023-04605 Filed 3-6-23; 8:45 am]

BILLING CODE 3410-30-P